DEPARTMENT OF COMMERCE

International Trade Administration

[A-533-840]

Certain Frozen Warmwater Shrimp From India: Notice of Final Results of Antidumping Duty Changed Circumstances Review

AGENCY: Enforcement and Compliance, International Trade Administration, Department of Commerce.

SUMMARY: On September 15, 2020, the Department of Commerce (Commerce) published the preliminary results of a changed circumstances review of the antidumping duty order on certain frozen warmwater shrimp (shrimp) from India. For these final results, Commerce continues to find that Hyson Exports Private Limited (Hyson Exports) is the successor-in-interest to Hyson Logistics and Marine Exports Private Limited (Hyson Logistics).

DATES: Applicable November 5, 2020.

FOR FURTHER INFORMATION CONTACT: Adam Simons, AD/CVD Operations, Office II, Enforcement and Compliance, International Trade Administration, U.S. Department of Commerce, 1401 Constitution Avenue NW, Washington, DC 20230; telephone: (202) 482-6172.

SUPPLEMENTARY INFORMATION:

Background

On July 23, 2020, Hyson Exports requested that Commerce conduct an expedited changed circumstances review, pursuant to section 751(b)(1) of the Tariff Act of 1930, as amended (the Act), 19 CFR 351.216, and 19 CFR 351.221(c)(3), to confirm that Hyson Exports is the successor-in-interest to Hyson Logistics for purposes of determining antidumping duty cash deposits and liabilities. In its submission, Hyson Exports stated that Hyson Logistics undertook a name change to Hyson Exports but is otherwise unchanged.¹

¹ See Hyson Exports' Letter “Request for Changed Circumstances Review: Certain Frozen Warmwater Shrimp from India,” dated July 23, 2020.

On September 15, 2020, Commerce initiated this changed circumstances review and published its notice of preliminary results, determining that Hyson Exports is the successor-in-interest to Hyson Logistics.² In the Initiation and Preliminary Results, we provided all interested parties with an opportunity to comment and request a public hearing regarding our preliminary finding that Hyson Exports is the successor-in-interest to Hyson Logistics.³ We received no comments or requests for a public hearing from interested parties within the time period set forth in the Initiation and Preliminary Results.⁴

² See Certain Frozen Warmwater Shrimp from India: Notice of Initiation and Preliminary Results of Antidumping Duty Changed Circumstances Review, 85 FR 57192, 57193 (September 15, 2020) (Initiation and Preliminary Results).

³ Id.

⁴ Id.

Scope of the Order

The merchandise subject to the order is certain frozen warmwater shrimp.⁵ The product is currently classified under the following Harmonized Tariff Schedule of the United States (HTSUS) item numbers: 0306.17.00.03, 0306.17.00.06, 0306.17.00.09, 0306.17.00.12, 0306.17.00.15, 0306.17.00.18, 0306.17.00.21, 0306.17.00.24, 0306.17.00.27, 0306.17.00.40, 1605.21.10.30, and 1605.29.10.10. Although the HTSUS numbers are provided for convenience and customs purposes, the written product description remains dispositive.

⁵ For a complete description of the Scope of the Order, see Certain Frozen Warmwater Shrimp from India: Final Results of Antidumping Duty Administrative Review; 2016-2017, 83 FR 32835 (July 16, 2018) (2016-2017 Final Results), and accompanying Issues and Decision Memorandum at “Scope of the Order” section.

Final Results of Changed Circumstances Review

For the reasons stated in the Initiation and Preliminary Results, and because we received no comments from interested parties, Commerce continues to find that Hyson Exports is the successor-in-interest to Hyson Logistics. As a result of this determination and consistent with established practice, we find that Hyson Exports should receive the cash deposit rate previously assigned to Hyson Logistics. Consequently, Commerce will instruct U.S. Customs and Border Protection to suspend liquidation of all shipments of subject merchandise produced or exported by Hyson Exports and entered, or withdrawn from warehouse, for consumption on or after the publication date of this notice in the Federal Register at 1.35 percent, which is the current antidumping duty cash deposit rate for Hyson Logistics.⁶ This cash deposit requirement shall remain in effect until further notice.

⁶ See 2016-2017 Final Results.

Notification to Interested Parties

We are issuing this determination and publishing these final results and notice in accordance with sections 751(b)(1) and 777(i)(1) and (2) of the Act and 19 CFR 351.216(e), 351.221(b), and 351.221(c)(3).

Dated: October 30, 2020.
Jeffrey I. Kessler,
Assistant Secretary for Enforcement and Compliance.

[FR Doc. 2020-24566 Filed 11-4-20; 8:45 am]

BILLING CODE 3510-DS-P